DEPARTMENT OF ENERGY

Federal Energy Regulatory Commission

Notice of Filing

May 20, 2008.

Allegheny Electric Cooperative, Inc. | Docket No. EL07-56-003
Borough of Chambersburg, Pennsylvania
City and Towns of Hagerstown, Thurmont, and Williamsport, Maryland
District of Columbia Office of the People's Counsel
Illinois Citizens Utility Board
Indiana Office of Utility Consumer Counsel
Maryland Office of People's Counsel
New Jersey Division of Rate Counsel
Office of the Attorney General of Virginia, Division of Consumer Counsel
Office of the Ohio Consumers' Counsel
Old Dominion Electric Cooperative
Pennsylvania Office of Consumer Advocate
PJM Industrial Customer Coalition
Southern Maryland Electric Cooperative, Inc.
State of Delaware, Division of the Public Advocate
Complainants v. PJM Interconnection L.L.C. Respondent
Organization of PJM States, Inc. | Docket No. EL07-58-003
District of Columbia Public Service Commission
Indiana Utility Regulatory Commission
Kentucky Public Service Commission
Maryland Public Service Commission
New Jersey Board of Public Utilities
North Carolina Utilities Commission
Pennsylvania Public Utility Commission
Virginia State Corporation Commission
Complainants v. PJM Interconnection, L.L.C. Respondent

Take notice that on May 12, 2008, PJM Interconnection, L.L.C., filed Rate Schedule FERC No. 46, Market Monitoring Services Agreement and Rate Schedule FERC No. 47, Service Level Agreement, in compliance with the Commission's March 21, 2008 Order, Allegheny Elec. Coop., Inc. v. PJM Interconnection L.L.C., 122 FERC ¶ 61,257, at P 26 & Ordering Para. (C) (2008) (March 21 Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 2, 2008.

Kimberly D. Bose,
Secretary.

[FR Doc. E8-11833 Filed 5-27-08; 8:45 am]

BILLING CODE 6717-01-P